DEPARTMENT OF HOMELAND SECURITY

U.S. Customs and Border Protection

Notice of Revocation of Customs Broker Licenses

AGENCY: U.S. Customs and Border Protection, Department of Homeland Security.

ACTION: Customs broker license revocations for the failure to file the triennial status report and applicable fee.

SUMMARY: Notice is hereby given that pursuant to section 641 of the Tariff Act of 1930, as amended, (19 U.S.C. 1641) and title 19 of the Code of Federal Regulations at section 111.30(d), (19 CFR 111.30(d)) the following Customs broker licenses are revoked by operation of law without prejudice.

Last/company name | First name | License | Port of issuance
Poplarchik | Sherry Lou | 17058 | Anchorage.
Joo | Suk C | 21454 | Anchorage.
Parker | Marvin H | 04273 | Anchorage.
Miller | John S | 16474 | Atlanta.
Topoulos | Christine | 24021 | Atlanta.
Pangburn | Kimberly J | 16474 | Atlanta.
Le | Anthony | 27512 | Atlanta.
Koshy | Kurian | 22300 | Atlanta.
Love | Charles Michael | 20059 | Atlanta.
Henry | Perry W | 15714 | Atlanta.
Kraus | Linda Louise | 07532 | Baltimore.
Martin | Wade S | 16390 | Baltimore.
World Trade Logistics, Inc |  | 27975 | Baltimore.
Kraus | Duncan Lee | 03587 | Baltimore.
Beck | Jonathan P | 10436 | Baltimore.
Malone | Helen | 10404 | Baltimore.
Curley | Richard Francis | 04536 | Boston.
Macchione | Richard | 04897 | Boston.
McCleery | Richard F | 10542 | Boston.
Hamson | Raymond | 03396 | Boston.
Thompson | Jane D | 09126 | Buffalo.
Hachee | Michael W | 04191 | Buffalo.
Koss | Lori Janeen | 16184 | Buffalo.
Smith | Esther | 17581 | Buffalo.
Dixon | Kathleen M | 10523 | Buffalo.
Hagyard | Carol Sue | 10942 | Buffalo.
Litwin | Alan L | 05025 | Buffalo.
Levenson | Elizabeth A | 05926 | Buffalo.
Knoblock | Kathleen M | 11091 | Buffalo.
Tower | Peter | 02420 | Buffalo.
DeGrandpre | Christopher B | 20975 | Champlain.
Sholan | Charles Nelson | 04025 | Champlain.
Penfield | Conrad S | 03229 | Champlain.
Carey | Francis L | 06837 | Champlain.
Meseck | Ronald R | 07270 | Champlain.
Erwin | Martha J | 10898 | Champlain.
Bouyea | Janet C | 11082 | Champlain.
Wister | Steven A | 15506 | Champlain.
Hail | David | 20370 | Charleston.
Childers | Carol J | 14011 | Charleston.
Smith | William A | 09028 | Charleston.
Johnson | Christine Marie Elizabeth | 14010 | Charleston.
Smith | Julie Ann | 13117 | Charleston.
McCarthy, III | Charles Joseph | 10159 | Charleston.
Thomas | David Michael | 06535 | Charleston.
Sabback | Darlene B | 10353 | Charleston.
Lott | Jesse J | 23539 | Charleston.
Barr IV | Capers | 21749 | Charleston.
Davenport | William L | 06634 | Charleston.
Pelloni | Robin | 15894 | Charleston.
Garst, III | James L | 05563 | Charlotte.
McHale | Bernard J | 09099 | Charlotte.
Abernathy | Barbara B | 15707 | Charlotte.
McKinnon | Candace E | 15923 | Charlotte.
Tucker | Evadne Winniefred | 15001 | Charlotte.
McHale | Michael J | 15021 | Charlotte.
Simpson | Elaine M | 10849 | Charlotte.
Bailey | Jequita Keith | 22021 | Charlotte.
Corbin | Nicole Kathleen | 22644 | Charlotte.
Devane | Bonnie W | 10197 | Charlotte.
Novakovsky | Mila | 15946 | Chicago.
Wheeler | Loren Wenfeng | 13087 | Chicago.
Herrera | John C | 14586 | Chicago.
Stanley | Thomas A | 17161 | Chicago.
Luludakis | Angela | 09730 | Chicago.
Schaible-Klaiss | Kathleen M | 22382 | Chicago.
Abel | Danette Marie | 15313 | Chicago.
Carcione | Lisa | 10590 | Chicago.
Flick | Barbara L | 06943 | Chicago.
Downie | Kevin | 05733 | Chicago.
Santos | Pablo C | 17201 | Chicago.
Dai | Jessica | 24192 | Chicago.
McGinnis | Eileen M | 06735 | Chicago.
Kerr | Angela Reed | 10261 | Chicago.
Adair | Jeffrey | 14558 | Cleveland.
Ferling | Ronald F | 20225 | Cleveland.
Gill | Linda J | 15909 | Cleveland.
Nuckles | Mickie M | 11198 | Cleveland.
Lauterbach | Paul D | 23413 | Cleveland.
Garen | Stacia D | 23293 | Cleveland.
Marshall | William | 16996 | Cleveland.
Chaffee | Robin R | 09861 | Cleveland.
Townsend | Dana S | 14556 | Cleveland.
Bokisa, Sr. | George | 10633 | Cleveland.
Miller | Julia M | 15184 | Cleveland.
Shtayyeh | Sami W | 15185 | Cleveland.
Brookman | Beverly J | 16381 | Cleveland.
Munera | Doris | 16380 | Cleveland.
Madison | Kimberly C | 15741 | Cleveland.
McKiddy | William T | 13887 | Cleveland.
Frick | Dawn | 27626 | Cleveland.
Hill | Theresa K | 23945 | Cleveland.
Forney | Robert K | 12437 | Cleveland.
Williams | Kenneth M | 04648 | Cleveland.
Bouslay | Joyce A | 06327 | Cleveland.
Martin | Sandra L | 21701 | Cleveland.
Sweeney | John P | 06008 | Cleveland.
Brooks | Mary Anne | 14534 | Dallas/Fort Worth.
Smith | William | 20696 | Dallas/Fort Worth.
Magalogo | Benjalynn | 20141 | Dallas/Fort Worth.
Castellanos | James D | 15440 | Dallas/Fort Worth.
Coon | Carole Gattis | 05732 | Dallas/Fort Worth.
Williams, Jr | James Boyde | 22991 | Dallas/Fort Worth.
Rainwater, Jr | Paul A | 09186 | Dallas/Fort Worth.
Mahoney | Robyn F | 13988 | Dallas/Fort Worth.
Mansfield | Agnesann B | 22727 | Dallas/Fort Worth.
Moreland | Lisa Diane | 14351 | Detroit.
Ramin | Melissa K | 04118 | Detroit.
Cathey | Candy Lynn | 11253 | Detroit.
Smith | James William | 15066 | Detroit.
Conard | Marcia Ann | 06540 | Detroit.
Loewe | Therese Michelle | 07324 | Detroit.
Osborn | E. Sunny | 22547 | Detroit.
Lucci | Gabrielle A | 10572 | Detroit.
Eason | Julie R | 13357 | Detroit.
Salisbury | Janet Lee | 16289 | Detroit.
Mann | Antonia J.S | 20457 | Detroit.
Erickson | Sandra Lynn | 17137 | Detroit.
Duhaime | Melissa | 17216 | Detroit.
Bailey | John Keegan | 28425 | Detroit.
Warner | Andrew P | 17262 | Detroit.
Tozer | Jacqueline | 15627 | Detroit.
Wenclas | Karl S | 16940 | Detroit.
Collins | Thomas Raymond | 10244 | Detroit.
Romo | Blanca A | 22142 | El Paso.
Maldonado | Daniel | 15954 | El Paso.
Parker | Amy Estelle | 16741 | El Paso.
Pranses | Anthony R | 11609 | El Paso.
Kump | Marybeth H | 14435 | Great Falls.
Drake | Ann K | 15988 | Great Falls.
Castro | Robert J | 22771 | Great Falls.
Sluys | Ralph Vaughn | 02474 | Great Falls.
Stillwagon | Eric Jon | 16536 | Great Falls.
Dunaway | Alan | 21559 | Great Falls.
Bair | Joyce H | 14196 | Great Falls.
Lam | Sun Kien | 03750 | Honolulu.
Lam | Ernest S.S | 05100 | Honolulu.
Figueroa | Annette Stowe | 12629 | Honolulu.
SJ Lam, Inc |  | 14551 | Honolulu.
Kohara | Edward | 05632 | Honolulu.
Skelton-Kohara & Company, Ltd |  | 05813 | Honolulu.
Stowe | John Cleophas | 04202 | Honolulu.
Gregerson | Gerda | 10970 | Houston.
Hunter | Melba J | 09906 | Houston.
Olson | James Roger | 06385 | Houston.
Ewert | James R | 07431 | Houston.
Euro-Hub International, Inc |  | 13918 | Houston.
Hendrix | Teresa Y | 13200 | Houston.
ATF International, Inc |  | 17495 | Laredo.
Bentsen | Janis C | 05031 | Laredo.
Buitron | Juan E | 16235 | Laredo.
Garcia | Ana M | 22669 | Laredo.
Smith | Nathaneal E | 22372 | Laredo.
Elizondo | Rene | 21681 | Laredo.
Maquilogistics, Inc |  | 20776 | Laredo.
Mata | Robert G | 21620 | Laredo.
Preuss | Glenn W | 15544 | Laredo.
Guerrero | Holly D | 06797 | Laredo.
Rich | William H | 17297 | Laredo.
Rafael A Morales, Inc |  | 12193 | Laredo.
Cook, Jr | Alton Henry | 13398 | Laredo.
Alaniz, Jr | Jesus | 13947 | Laredo.
Hinojosa | Anna Maria | 16904 | Laredo.
Fox | Veronica Lynn | 20008 | Los Angeles.
O'Neill | Mary Etta | 10483 | Los Angeles.
Giarraputo | Laura Ann | 10597 | Los Angeles.
Smart Cargo Service, Inc |  | 16646 | Los Angeles.
Ice | Donald Lee | 16738 | Los Angeles.
Martin-Baker | Deborah Catherine | 11423 | Los Angeles.
Annulli | Cynthia Ann | 20316 | Los Angeles.
Avila | Kathryn | 28053 | Los Angeles.
Curtis | Melinda Sue | 15968 | Los Angeles.
Agnew | John Andres | 14852 | Los Angeles.
Yung | Lily Phu | 20198 | Los Angeles.
Ching | Ann Curie | 15445 | Los Angeles.
Orton | Steven G | 05095 | Los Angeles.
Thomas | Robert Walter | 04557 | Los Angeles.
Stidd | Charles Winfield | 11840 | Los Angeles.
Antrim-Saizan | Sara Lee | 12506 | Los Angeles.
Milliner | Gabrielle Marie Louise | 13181 | Los Angeles.
Bateman | Jeanette Lynne | 17514 | Los Angeles.
Genesis Forwarding Services of California, Inc |  | 07798 | Los Angeles.
Wessell-Cremeans | Julia Marie | 20404 | Los Angeles.
Leon | Daniel V | 11773 | Los Angeles.
Henry | Hiram Lee | 20059 | Los Angeles.
Boucher | Michael Louis | 13307 | Los Angeles.
Rae | William Alan | 13182 | Los Angeles.
Renteria | Patricia O | 10491 | Los Angeles.
Denny | Laura Ann | 16952 | Los Angeles.
Miller | Megan Nicole | 27550 | Los Angeles.
Chang | Li-Kung | 14602 | Los Angeles.
Santo | Renee Kiyomi | 17402 | Los Angeles.
Cosmo Customs Service, Inc |  | 16645 | Los Angeles.
Rittenhouse | John Marshall | 14789 | Los Angeles.
Puentes | Paul A | 16987 | Los Angeles.
Waney | Linda Sue | 13165 | Los Angeles.
Bain | Harry O | 09822 | Los Angeles.
Horn | Antoine A | 11748 | Los Angeles.
Perrie | Sharon Lee (Yurrell) | 09499 | Los Angeles.
Zamarripa | Steven John | 07680 | Los Angeles.
Edens | Ryan | 23317 | Los Angeles.
BDR & Associates, Inc |  | 23218 | Los Angeles.
Sanchez | Daniel Anthony | 08067 | Los Angeles.
Lee | Young M | 24328 | Los Angeles.
Samela | Lenore J | 07981 | Los Angeles.
Hannon | Timothy O | 07909 | Los Angeles.
Schick International Forwarding |  | 09762 | Los Angeles.
Milicov | Richard | 06257 | Los Angeles.
Skoczen | Leonard Stanley | 04633 | Los Angeles.
Roggenburg | Thomas L | 04731 | Los Angeles.
Hughes | Bernard Dennis | 19653 | Los Angeles.
Trinity Customs Brokers, Inc |  | 22248 | Los Angeles.
Pro-Service Forwarding Co., Inc |  | 07247 | Los Angeles.
Crabtree | John Edison | 06121 | Los Angeles.
Murray | James E | 07019 | Los Angeles.
France | Heidi A | 22036 | Los Angeles.
Stein | Renee E | 07160 | Los Angeles.
Kim | Suji Susan | 21216 | Los Angeles.
Nik & Associates |  | 06731 | Los Angeles.
Krieger | Ian H | 07232 | Los Angeles.
Sudman | Michael D | 21508 | Los Angeles.
Inouye | Hiroshi | 16447 | Los Angeles.
Schepers | John Max | 06321 | Los Angeles.
Schnetter | Pamela Louise | 13140 | Los Angeles.
Oxenreider | Derek J | 24156 | Los Angeles.
Chan | Anthony T | 07501 | Los Angeles.
Pierce | Brian M | 24291 | Los Angeles.
Smith | Robert Scott | 20357 | Los Angeles.
Piser | Louis Todd | 05980 | Los Angeles.
Bouma | Mary Elizabeth | 20305 | Los Angeles.
Pouncil, Jr | Phillip | 07350 | Los Angeles.
Castellanos | Cecilia | 04377 | Los Angeles.
Curtis | Helen J | 04397 | Los Angeles.
Mulherin | John L | 04598 | Los Angeles.
Iannarelli, Jr | William J | 15684 | Miami.
Lescano | Manuel A | 06178 | Miami.
Jones | Gary H | 10343 | Miami.
Leon | Roy | 05936 | Miami.
Messina | Peter | 14267 | Miami.
Brenlla, Jr | Santiago M | 22004 | Miami.
A Active Freezone Cargo, Inc |  | 14868 | Miami.
Bleakley | Christopher B | 12127 | Miami.
Duke, Jr | Gerald W | 12451 | Miami.
Farrow | Mark A | 11361 | Miami.
Dominguez | John A | 11513 | Miami.
Greene | Peter M | 14280 | Miami.
Hurst | Adrianne Louise | 07400 | Miami.
Smith | Stephen J | 23849 | Miami.
Burns | Elizabeth A | 22719 | Milwaukee.
Hardin | Della M | 22649 | Milwaukee.
Wadro | Kirsten S | 23520 | Milwaukee.
Williams | Gerald Paul | 14235 | Milwaukee.
Diaz | Rudy | 15650 | Minneapolis.
Otto | Jacqueline J | 14521 | Minneapolis.
Brault | Elizabeth Ann | 10639 | Minneapolis.
Gleason | John Michael | 03867 | Minneapolis.
Davis | Barbara Jean | 10640 | Minneapolis.
Leach | Charlene K | 16876 | Minneapolis.
Harley | Chad E | 20584 | Minneapolis.
Dicks | Kirsten H | 21606 | Minneapolis.
Superior Global Logistics, Inc |  | 24109 | Minneapolis.
Severson | Blythe Rebecca | 13689 | Minneapolis.
Erickson, Jr | Gordon R | 20475 | Minneapolis.
Gilbert | Dayton D | 17523 | Minneapolis.
Lange | Catherine L | 20811 | Mobile.
Polovich | Lillian Catherine F | 20906 | Mobile.
Liner Services International, Inc |  | 20794 | Mobile.
Draeger | Thomas P | 13393 | Mobile.
Cisco | Robert W | 03517 | New Orleans.
Oakley | James J | 12288 | New Orleans.
Smith | Robert W | 22808 | New Orleans.
Cowhey | Michael | 15663 | New Orleans.
Couch | Lesley | 17093 | New Orleans.
Armshaw | Donald C | 05068 | New Orleans.
McAuliffe | Margaret M | 05130 | New Orleans.
Lumpkin | Elizabeth Ann | 05459 | New Orleans.
Tate, Jr | James W | 11667 | New Orleans.
McLaughlin | Kathryn J | 21480 | New Orleans.
Gerville-Reache | Yann | 23833 | New Orleans.
Laney | Paul D | 05998 | New Orleans.
Belsom, Jr | Charles William | 24316 | New Orleans.
Kleiner | Gordon | 20774 | New Orleans.
Laird | Barbara Laine | 20963 | New Orleans.
Konstantinovsky | Boris | 20792 | New York.
Fellouris | George | 04757 | New York.
Rosato II | Nicholas F | 09079 | New York.
Rodgers | Roy A | 06127 | New York.
Keenan | Gloria J | 12322 | New York.
Wyckoff | Allen | 05173 | New York.
Lee | Robert Y | 09645 | New York.
Ma | Guo Zhan | 28050 | New York.
EWA Customs Service, Inc |  | 23694 | New York.
Crapanzano | Dominick J | 10029 | New York.
Cambell & Gardiner, Inc |  | 02342 | New York.
Haft | Shlomo Yisrael | 22296 | New York.
Piechota | Robert | 23529 | New York.
Ronan | William G | 23177 | New York.
Lehat | Irving | 02579 | New York.
Ahn | Byung M | 22354 | New York.
Rowan | Susan M | 09932 | New York.
Novello | Gary C | 24161 | New York.
HAV International Freight |  | 12843 | New York.
Fitzgerald | Matthew K | 02941 | New York.
Valdes | Dorianne | 17091 | New York.
Levine | Seth A | 09759 | New York.
Walsh | John X | 03979 | New York.
Palmieri | Eugene D | 02632 | New York.
Elisberg | Norman Gene | 02929 | New York.
Gambardella | Michael J | 02913 | New York.
Duncan | Robert Allan | 22867 | New York.
Mosher | Fredric W | 17134 | New York.
Irizarry | Dawn M | 15160 | New York.
Forte | Peter F | 14575 | New York.
Arbolante | Armand | 16369 | New York.
Banghart | Warren G | 16374 | New York.
Pereira | Beatrice R | 09059 | New York.
Launer | Ralph W | 05747 | New York.
Oszustowicz Jr | John J | 05933 | New York.
Stettner | Robert | 05894 | New York.
Wallace | Frank E | 03170 | New York.
Wang | Chia S | 15452 | New York.
Gregoriou | Larry | 10461 | New York.
Fei | Donald L | 10362 | New York.
Keough | James | 06910 | New York.
Brickmeier | Louis F | 03176 | New York.
Rea | Robert Daniel | 03980 | New York.
Hassinger | Herbert A | 07057 | New York.
Kittler | James A | 09946 | New York.
Kaczynski | Thomas Benjamin | 09226 | New York.
Ovair Freight Service, Inc |  | 05773 | New York.
Weinstock | Richard | 05119 | New York.
Reid | Derick | 15453 | New York.
Fietz | William L | 05163 | New York.
Ferrara International Logistics, Inc |  | 20280 | New York.
Allan | Judith | 14592 | Nogales.
Foster | B. Steven | 14665 | Nogales.
Evans | Clay W | 10057 | Nogales.
Albertini-Bond | Sarah Jane | 28123 | Norfolk.
Perry, Jr | Phillip William | 24056 | Norfolk.
Blanchard | Karen L | 10872 | Norfolk.
Pietz | Lisa B | 11676 | Norfolk.
Suslaev | Alexey A | 21236 | Norfolk.
Babcock | Janet M | 10946 | Norfolk.
Vose | Sherry Ann | 12458 | Norfolk.
Rhodes | Marvin D | 04418 | Norfolk.
Stonehouse | Stephen | 04716 | Otay Mesa.
Kramer | John Wade | 03516 | Pembina.
Kramer | Mary Lee | 07741 | Pembina.
Anderson | Richard L | 03237 | Pembina.
Wallen | Michael A | 15601 | Philadelphia.
Dracha | David | 20769 | Philadelphia.
Buggey | Joan | 20966 | Philadelphia.
Aries Global Logistics, Inc |  | 22742 | Philadelphia.
Coxson | Charles R | 15760 | Philadelphia.
Semel | Dana L | 15735 | Philadelphia.
Murphy | Patrick J | 08089 | Philadelphia.
Klingbeil | Susan | 10847 | Philadelphia.
DJR Logistics, Inc |  | 28059 | Philadelphia.
Trinidad | Lamberto B | 07785 | Philadelphia.
Arth | David T | 04602 | Philadelphia.
Galik | Jane M | 10357 | Philadelphia.
D'Amico | Lenore Anne | 15093 | Philadelphia.
Frederick | Ted D | 10654 | Philadelphia.
Grebe | James J | 07962 | Philadelphia.
Worldlink Logistics, Inc |  | 22349 | Philadelphia.
Bustard | Edwin A | 05399 | Philadelphia.
Trans Port Agencies, Inc |  | 22111 | Philadelphia.
Bustard | Michelle J | 21795 | Philadelphia.
Liberati Corporation |  | 13176 | Philadelphia.
Cargo Express, Inc |  | 20105 | Philadelphia.
Bolalek | Philip J | 21312 | Philadelphia.
Van Valkenburg | Per F | 10292 | Philadelphia.
Carson M Simon Company |  | 13989 | Philadelphia.
Borgerding | Madonna M | 13219 | Philadelphia.
Caiazza | John L | 16868 | Philadelphia.
Myers | Ronald W | 15479 | Philadelphia.
Reynolds | James E | 04704 | Philadelphia.
Charles | Ralph | 15527 | Philadelphia.
Godfrey | Charles E | 15223 | Philadelphia.
Kelly | James A | 06512 | Philadelphia.
Cherry | Arthur | 03504 | Philadelphia.
Sinnott | James W | 15964 | Philadelphia.
Arnone | Charles | 04983 | Philadelphia.
Bordon | David Scott | 16710 | Philadelphia.
Liberati | Bernard D | 07275 | Philadelphia.
Amoriello, Sr | Louis P | 03983 | Philadelphia.
Tuefel | Sandra Darlene | 16396 | Philadelphia.
Niedermeyer | Karen L | 17177 | Philadelphia.
Storey | Jerry I | 16896 | Philadelphia.
Smith | Christine L | 14579 | Philadelphia.
Plant | Steven H | 16020 | Philadelphia.
Hosack | John W | 05994 | Portland, ME.
Nestor | Susan A | 13690 | Portland, OR.
CastleIsland LLC |  | 22916 | Portland, OR.
Relleve | Anya | 15795 | Portland, OR.
Harju | Krista Ann | 13691 | Portland, OR.
Waldrip | David S | 16837 | Portland, OR.
Babb | Michelle Ann | 21082 | Portland, OR.
McAlmond | Christina | 20169 | Portland, OR.
Cannon | Charles J | 04618 | Providence.
Barragan | Luis | 15146 | San Diego.
Lugon-Moulin | Shelley | 07640 | San Diego.
Geely Customs Broker, Inc |  | 28821 | San Francisco.
Fortenberry | W.C | 11544 | San Francisco.
Lowry | Andrew McCartney | 14067 | San Francisco.
Gaspay | Manuel S | 27753 | San Francisco.
Budiman | Alex | 20163 | San Francisco.
Wong | Philip | 13776 | San Francisco.
Cortes | Luis A | 21319 | San Juan.
Fahey | Christopher J | 20504 | Savannah.
James | John William | 04071 | Savannah.
Duncan | Jean D | 04583 | Savannah.
Donaldson | J. Gilbert | 09278 | Savannah.
Quinn | Paulette A | 11504 | Savannah.
Hart, Jr. | Edward L | 12423 | Savannah.
Saxton-Freeman | Sandra | 12566 | Savannah.
Droste | Jeannie | 17066 | Savannah.
Mobley | Virginia J | 04161 | Savannah.
Griffith | Laree' Delane | 21055 | Seattle.
McDonald | Mia Lavon | 22438 | Seattle.
Morrison | Dwight | 15576 | Seattle.
Barbour | Anita | 21477 | Seattle.
Price | Terrence B | 04798 | Seattle.
World Project Services International, Inc |  | 14872 | Seattle.
Gregory | James L | 04211 | Seattle.
Falip | Ingrid | 15717 | Seattle.
Wing | Ethan L | 14155 | Seattle.
Erwin | Kathy A | 18014 | Seattle.
Griffin | Arthur L | 12313 | Seattle.
Alexander | Norman | 13459 | Seattle.
Zimmerman | Berry | 16915 | Seattle.
Edenholm | Robert M | 03716 | Seattle.
Anderson | Jennifer M | 16747 | Seattle.
Harman | Roger | 15920 | Seattle.
Breidenstein | Dan A | 07233 | Seattle.
Tuai | Walter M | 06770 | Seattle.
Bladies | Gerald A | 05098 | Seattle.
Rouse | John C | 06163 | Seattle.
Larson | Paul E | 06442 | Seattle.
Journey | Valerie Toujours | 10805 | Seattle.
Hoffman | Christina L | 11486 | Seattle.
Hoopiiaina | Kathleen M | 11625 | Seattle.
Baldwin | William N | 17183 | Seattle.
Shiroyama | Gina M | 14811 | Seattle.
Isabelle | Suzanne Nicole | 11513 | St. Albans.
Rancourt | Pauline N | 24262 | St. Albans.
Domey | Brian A | 05885 | St. Albans.
Drost | Robert B | 12848 | St. Louis.
Polley | Teresa L | 21661 | St. Louis.
Bowman | Patricia A | 11510 | St. Louis.
Hotard | George J | 15734 | St. Louis.
Sullivan | Betsy Kim | 22101 | St. Louis.
Neill | George R | 21449 | St. Louis.
Whitaker | John W | 05474 | St. Louis.
Trost | Thomas F | 14753 | St. Louis.
Keperling | Amy Denise | 17232 | St. Louis.
Ellgen | Eric J | 17010 | St. Louis.
Warren | David L | 16592 | St. Louis.
Keller | Donald A | 03776 | St. Louis.
Wright, Sr | John E | 21497 | St. Louis.
Lappin | Katharine A | 20049 | St. Louis.
Kim | Rae H | 23730 | St. Louis.
Meadows | Matthew C | 11512 | St. Louis.
Welker | Linda L | 14609 | St. Louis.
Waltos | Shirley A | 07375 | St. Louis.
Welch | Michael E | 03778 | St. Louis.
Howard | Kelly J | 20099 | St. Louis.
Wolfinger | Enola H | 23672 | Tampa.
Windau | Jude | 28051 | Tampa.
Gruenewald | William J | 21474 | Tampa.
Childers | Scott Eugene | 14511 | Tampa.
Nichols | Mary Lou | 14039 | Tampa.
Madden | John L | 16629 | Tampa.
Elliott | Julian E | 15140 | Tampa.
Moritsugu | Erika L | 23065 | Washington, DC.
Goodson | Dale | 20190 | Washington, DC.
Suter | Joan K | 09455 | Washington, DC.
Ferguson | Anthony R | 10934 | Washington, DC.
Brown | Charles L | 12112 | Washington, DC.
Bucher | Jane Linnea | 12388 | Washington, DC.
Barr | Richard P | 23924 | Washington, DC.
St. John | Julia E | 12205 | Washington, DC.
Welch | Denise L | 13043 | Washington, DC.
Cassise | Christopher J | 20143 | Washington, DC.
Nahas | Chanel R | 23172 | Washington, DC.
Vogt | James | 16088 | Washington, DC.
Wakeman | Dennis J | 16541 | Washington, DC.
Golemon | Meredith Lee | 22352 | Washington, DC.
Soyka | David | 22351 | Washington, DC.
Jung | Holly D | 16706 | Washington, DC.
Sullivan | David | 16087 | Washington, DC.

Dated: December 3, 2012.
Allen Gina,
Assistant Commissioner, Office of International Trade.

[FR Doc. 2012-29476 Filed 12-5-12; 8:45 am]

BILLING CODE 9111-14-P